DEPARTMENT OF HEALTH AND HUMAN SERVICES

Centers for Disease Control and Prevention

Task Force on Community Preventive Services

In accordance with section 10(a)(2) of the Federal Advisory Committee Act (Pub. L. 92-463), the Centers for Disease Control and Prevention (CDC) announces the following meeting:

Name: Task Force on Community Preventive Services.

Times and Dates: 8 a.m.-6 p.m. EST, October 22, 2008; 8 a.m.-1 p.m. EST, October 23, 2008.

Place: Centers for Disease Control and Prevention, 2500 Century Parkway, Atlanta, Georgia 30345.

Status: Open to the public, limited only by the space available.

Purpose: The mission of the Task Force is to develop and publish the Guide to Community Preventive Services (Community Guide), which consists of systematic reviews of the best available scientific evidence and associated recommendations regarding what works in the delivery of essential public health services.

Topics include:

• Sexual Behavior: Group-based interventions to reduce adolescent pregnancy, HIV, and other Sexually Transmitted Diseases.

• Vaccine Preventable Diseases: Interventions to reduce out-of-pocket costs.

• Vaccine Preventable Diseases: Immunization Information Systems.

• Physical Activity Updates.

Agenda items are subject to change as priorities dictate.

Persons interested in reserving a space for this meeting should call Charmen Crawford at 404. 498.2498 by close of business on October 17, 2008.

Contact person for additional information: Charmen Crawford, Coordinating Center for Health Information and Services, National Center for Health Marketing, Office of the Director, Centers for Disease Control and Prevention, 1600 Clifton Road, M/S E-69, Atlanta, GA 30329, phone: 404.4982498.

Dated: September 30, 2008.
James D. Seligman,
Chief Information Officer, Centers for Disease Control and Prevention.

[FR Doc. E8-23814 Filed 10-7-08; 8:45 am]

BILLING CODE 4163-18-P